NUCLEAR REGULATORY COMMISSION

[NRC-2009-0383]

Draft Regulatory Guide: Issuance, Availability

AGENCY: Nuclear Regulatory Commission.

ACTION: Notice of issuance and availability of Draft Regulatory Guide, DG-1227.

FOR FURTHER INFORMATION CONTACT: Donald Helton, U.S. Nuclear Regulatory Commission, Washington, DC 20555-0001, telephone: (301) 251-7594 or e-mail to Donald.Helton@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “An Approach for Plant-Specific, Risk-Informed Decisionmaking: Technical Specifications,” is temporarily identified by its task number, DG-1227, which should be mentioned in all related correspondence. DG-1227 is proposed Revision 1 of Regulatory Guide 1.177, dated August 1998. The NRC's policy statement on probabilistic risk assessment (PRA) encourages greater use of this analysis technique to improve safety decisionmaking and improve regulatory efficiency. The NRC staff's Risk-Informed and Performance-Based Plan (RPP) formerly known as the PRA Implementation Plan describes current or planned activities to expand use of this analytical method. One activity under way in response to the policy statement is the use of PRA in support of decisions to modify an individual plant's technical specifications (TS).

Licensee-initiated TS changes that are consistent with currently approved staff positions (e.g., regulatory guides, standard review plans, branch technical positions, or the Standard Technical Specifications (STS)) are normally evaluated by the staff using traditional engineering analyses. A licensee would not be expected to submit risk information in support of the proposed change. Licensee-initiated TS change requests that go beyond current staff positions may be evaluated by the staff using traditional engineering analyses as well as the risk-informed approach set forth in this regulatory guide. A licensee may be requested to submit supplemental risk information if such information is not provided in the original submittal by the licensee. If risk information on the proposed TS change is not provided to the staff, the staff will review the information provided by the licensee to determine whether the application can be approved based upon the information provided using traditional methods and will either approve or reject the application based upon the review.

II. Further Information

The NRC staff is soliciting comments on DG-1227. Comments may be accompanied by relevant information or supporting data and should mention DG-1227 in the subject line. Comments submitted in writing or in electronic form will be made available to the public in their entirety through the NRC's Agencywide Documents Access and Management System (ADAMS).

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2009-0383]. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-1227 may be directed to the NRC contact, Donald Helton at (301) 251-7594 or e-mail to Donald.Helton@nrc.gov.

Comments would be most helpful if received by November 3, 2009. Comments received after that date will be considered if it is practical to do so, but the NRC is able to ensure consideration only for comments received on or before this date. Although a time limit is given, comments and suggestions in connection with items for inclusion in guides currently being developed or improvements in all published guides are encouraged at any time.

Electronic copies of DG-1227 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML091200294.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 25th day of August 2009.
For the Nuclear Regulatory Commission.
Andrea D. Valentin,
Chief, Regulatory Guide Development Branch, Division of Engineering, Office of Nuclear Regulatory Research.

[FR Doc. E9-21280 Filed 9-2-09; 8:45 am]

BILLING CODE 7590-01-P